DEPARTMENT OF HOMELAND SECURITY

Federal Emergency Management Agency

[Docket ID FEMA-2011-0025]

Revised Analysis and Mapping Procedures for Non-Accredited Levees

AGENCY: Federal Emergency Management Agency, DHS.

ACTION: Notice.

SUMMARY: The Federal Emergency Management Agency (FEMA) is accepting comments on the proposed solution for Revised Analysis and Mapping Procedures for Non-Accredited Levees. This document proposes a revised procedure for the analysis and mapping of non-accredited levees on FEMA's Flood Insurance Rate Maps. FEMA seeks input on this policy in terms of its feasibility, flexibility, and collaborative nature.

DATES: Comments must be received by January 30, 2012.

ADDRESSES: Comments must be identified by docket ID FEMA-2011-0025 and may be submitted by one of the following methods:

Federal Rulemaking Portal: http://www.regulations.gov. Follow the instructions for submitting comments. Please note that this proposed policy is not a rulemaking and the Federal Rulemaking Portal is being utilized only as a mechanism for receiving comments.

Mail: Regulatory Affairs Division, Office of Chief Counsel, Federal Emergency Management Agency, Room 835, 500 C Street SW., Washington, DC 20472-3100.

National Flood Insurance Program (NFIP) Levees Comment Web site: http://www.NFIP-levees.com. Follow the instructions for submitting comments on the Web site.

FOR FURTHER INFORMATION CONTACT: Bill Blanton, Levee Analysis and Mapping Approach Public Review, 1800 South Bell Street, Room 601, Arlington, VA 20598-3015. Phone: (202) 646-3151.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link in the footer of http://www.regulations.gov.

You may submit your comments and material by the methods specified in the ADDRESSES section. Please submit your comments and any supporting material by only one means to avoid the receipt and review of duplicate submissions.

Docket: The proposed solution document is available in docket ID FEMA-2011-0025. Additionally, the document can be found at http://www.fema.gov/plan/prevent/fhm/lv_lamp.shtm. For access to the docket to read background documents or comments received, go to the Federal eRulemaking Portal at http://www.regulations.gov and search for the docket ID. Submitted comments may also be inspected at FEMA, Office of Chief Counsel, Room 835, 500 C St. SW., Washington, DC, 20472.

II. Public Online Forum

FEMA will hold three public online forums to present the approach. The first public forum will be held on December 21, 2011 from 1:30 p.m. EST to 3 p.m. EST. The second online forum will be held on January 3, 2012, from 1:30 p.m. EST to 3 p.m. EST. The third online forum will be held on January 10, 2012 from 1:30 p.m. EST to 3 p.m. EST. All meetings will take place through an online webinar. If you are interested in participating in the online forum, please email FEMA-GS@dhs.gov to reserve a slot for the forum and receive further instructions for logging in and participating.

III. Background

FEMA maps flood hazards on Flood Insurance Rate Maps, a tool used to support the National Flood Insurance Program. These maps identify areas that are flood prone for a variety of reasons. One unique category of flood hazards is the areas behind levees. Levees can be recognized as providing protection on FEMA's flood maps if they meet all requirements of 44 CFR 65.10, the regulations that define the design, maintenance and operation standards specifically for this purpose. Levees meeting all aspects of 44 CFR 65.10 are considered eligible to be accredited. Those that cannot meet all of these standards cannot be accredited.

The current approach for analyzing and mapping flood hazards associated with non-accredited levees is a singular approach where one technical procedure applies to all non-accredited levees. The feedback on this one-size-all approach is that it does not take the unique conditions of each levee into consideration. Many stakeholders also believe this approach does not adequately reflect the ability of these levees to provide some level of flood hazard reduction.

FEMA is listening to this stakeholder feedback that this current approach used to map flood hazards associated with non-accredited levees is too coarse to represent the variety of situations associated with levees. In response, FEMA has worked to revise the mapping procedures for non-accredited levees. This approach works within the confines of existing federal regulations, yet is more flexible, collaborative and feasible.

FEMA is replacing the former, singular approach with a suite of procedures that are technically sound, understandable to stakeholders, and cost effective. This suite of procedures will better meet the needs of the public and provide more precise results, while at the same time recognizing that uncertainty will remain. While these procedures allow for more detailed modeling and mapping of flood hazards for non-accredited levee systems, the risk of flooding in levee-impacted areas remains. Therefore, levee system owners and communities still need to remain engaged in flood risk management and communication activities.

IV. Request for Comments

FEMA welcomes your comments, questions, and concerns regarding the proposed approach's technical clarity, potential local impact, and feasibility for community participation. FEMA also welcomes any suggestions for improvement to the proposed approach.

Authority: 42 U.S.C. 4001, 44 CFR part 65.

Sandra Knight,
Deputy Associate Administrator, Federal Insurance and Mitigation, Federal Emergency Management Agency.

[FR Doc. 2011-32128 Filed 12-14-11; 8:45 am]

BILLING CODE 9110-12-P